DEPARTMENT OF COMMERCE

National Oceanic and Atmospheric Administration (NOAA)

Marine Protected Areas Federal Advisory Committee; Public Meeting

AGENCY: National Ocean Service, NOAA, Department of Commerce.

ACTION: Notice of open meeting

SUMMARY: Notice is hereby given of a meeting of the Marine Protected Areas Federal Advisory Committee (Committee) in Anchorage. Alaska.

DATES: The meeting will be held Wednesday, September 9, 2009, from 9 a.m. to 5:30 p.m., Thursday, September 10, from 8:30 a.m. to 5 p.m., and Friday, September 11, from 8:30 am. to 4:30 p.m. These times and the agenda topics described below are subject to change. Refer to the Web page listed below for the most up-to-date meeting agenda.

ADDRESSES: The meeting will be held at the Hilton Anchorage, 500 West Third Avenue, Anchorage, Alaska.

FOR FURTHER INFORMATION CONTACT: Lauren Wenzel, Designated Federal Officer, MPA FAC, National Marine Protected Areas Center, 1305 East West Highway. Silver Spring, Maryland 20910. (Phone: 301-713-3100 x136. Fax: 301-713-3110); e-mail: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of section 4 of Executive Order 13158 on MPAs. The meeting will be open to public participation from 4:30 p.m. to 5:30 p.m. on Wednesday, September 9, 2009. and from 8:35 a.m. to 9:30 a.m. on Friday, September 11, 2009. In general, each individual or group will be limited to a total time of five (5) minutes. If members of the public wish to submit written statements, they should be submitted to the Designated Federal Official by September 4, 2009.

Matters To Be Considered: The Committee meeting will include two expert panel presentations, one on how the national system can contribute to ecological resilience in the face of climate change, and one, including invited management agencies and stakeholders, on marine protected areas in Alaska. The Scientific and Technical Subcommittee and the Review and Evaluation Subcommittee will meet to finalize recommendations, and will report back to the full MPA FAC for deliberations and action. The meeting also will include elections of a new MPA FAC Chair and Vice Chair. The agenda is subject to change. The latest version will be posted at http://www.mpa.gov.

Dated: August 3, 2009.
David M. Kennedy,
Director, Office of Ocean and Coastal Resource Management.

[FR Doc. E9-19286 Filed 8-12-09; 8:45 am]

BILLING CODE M